DEPARTMENT OF AGRICULTURE

Food and Nutrition Service

Agency Information Collection Activities: Proposed Collection; Comment Request—Supplemental Nutrition Assistance Program State Agency Options

AGENCY: Food and Nutrition Service, USDA.

ACTION: Notice.

SUMMARY: In accordance with the Paperwork Reduction Act of 1995, this notice invites the general public and other public agencies to comment on the proposed collection. This collection is an extension without change for the State Agency Options, Standard Utility Allowance and Self Employment Costs, burden calculations for the Supplemental Nutrition Assistance Program (SNAP), formerly known as the Food Stamp Program.

DATES: Written comments must be received on or before July 6, 2010.

ADDRESSES: Comments are invited on: (a) Whether the proposed collection of information is necessary for the proper performance of the functions of the agency, including whether the information shall have practical utility; (b) the accuracy of the agency's estimate of the burden of the proposed collection of information including the validity of the methodology and assumptions used; (c) ways to enhance the quality, utility, and clarity of the information to be collected; (d) ways to minimize the burden of the collection of information on those who respond, including through the use of appropriate automated, electronic, mechanical, or other technological collection techniques or other forms of information technology.

Comments may be sent to Angela Kline, Chief, Certification Policy Branch, Program Development Division, FNS, U.S. Department of Agriculture, 3101 Park Center Drive, Room 812, Alexandria, VA 22302. Comments may also be faxed to the attention of Ms. Kline at (703) 305-2486. The Internet address is: Angela.Kline@FNS.USDA.GOV.

Comments will also be accepted through the Federal eRulemaking Portal. Go to http://www.regulations.gov and follow the online instructions for submitting comments electronically.

All written comments will be open for public inspection at the office of the FNS during regular business hours (8:30 a.m. to 5 p.m., Monday through Friday) at 3101 Park Center Drive, Alexandria, Virginia, 22302, Room 800.

All responses to this notice will be summarized and included in the request for OMB approval. All comments will be a matter of public record.

FOR FURTHER INFORMATION CONTACT: Requests for additional information should be directed to Ms. Kline at (703) 305-2495.

SUPPLEMENTARY INFORMATION:

Title: Supplemental Nutrition Assistance Program: State Agency Options.

OMB Number: 0584-0496.

Form Number: None.

Expiration Date: 10/31/2010.

Type of Request: Extension without change of a currently approved information collection.

Abstract: This collection is an extension without change for the State Agency Options, Standard Utility Allowance and Self Employment Costs, burden calculations for SNAP, formerly known as the Food Stamp Program. The program's name was changed by the Food, Conservation, and Energy Act of 2008 (Pub. L. 110-246) (FCEA) on October 1, 2008, to reflect the fact that participants no longer receive stamps or coupons to make food purchases and to emphasize the nutritional aspect of the program. To comply with current law, FNS is using the new program name SNAP in this extension of information collection for OMB No. 0584-0496. It should be noted, however, that the program regulations at 7 CFR parts 271-285 have not yet been revised to reflect the new name.

The SNAP regulations at 7 CFR part 273 contain the requirements for the application, certification and continued eligibility for SNAP benefits. On January 29, 2010, FNS published a final rule in the Federal Register (75 FR 4912), which codified the eligibility and certification provisions of the Farm Security and Rural Investment Act of 2002 (FSRIA). This notice extends the collection burden, which was recently revised and approved by OMB on March 26, 2010, to account for changes required by the final FSRIA rule.

Establishing and reviewing standard utility allowances. The regulations at 7 CFR 273.9(d)(6)(iii) allow State agencies to establish standard utility allowances (SUA) in place of the actual utility costs incurred by a household. Once SUAs are established, State agencies are required to review and adjust SUAs annually to reflect changes in the costs of utilities. Many State agencies already have one or more approved standards, which they update annually. State agencies may use information already available from case files, quality control reviews or other sources and from utility companies. State agencies may make adjustments based on cost-of-living increases. The information will be used to establish standards to be used in place of actual utility costs in the computation of the excess shelter deduction. State agencies are required to submit the amounts of these standards and methodologies used in developing and updating the standards to FNS when they are developed or changed.

Estimates of burden: Currently 52 State agencies have a standard that includes heating or cooling costs and 41 have a standard for utility costs other than heating or cooling. In addition, 51 State agencies have a telephone allowance standard. We estimate a minimum of 2.5 hours annually to make this review and adjustment (2.5 hours × 52 State agencies = 130 hours). Total burden for this provision is estimated to be 130 hours per year.

Self-employment costs. The regulations at 7 CFR 273.11(b) allow self-employment gross income to be reduced by the cost of producing such income. The regulations allow the State agencies, with approval from FNS, to establish the methodology for offsetting the costs of producing self-employment income, as long as the procedure does not increase program costs. State agencies may submit a request to FNS to use a method of producing a reasonable estimate of the costs of producing self-employment income in lieu of calculating the actual costs for each household with such income. Different methods may be proposed for different types of self-employment. The proposal shall include a description of the proposed method, the number and type of households and percent of the caseload affected, and documentation indicating that the proposed procedure will not increase program costs. State agencies may collect this data from household case records or other sources that may be available.

Estimates of burden: We estimate that 10 State agencies will submit a request of this type each year for the next three years. It is estimated that these States will incur a one-time burden of at least 10 working hours gathering and analyzing data, developing the methodology, determining the cost implication, and submitting a request to FNS for a total burden of 100 hours annually (10 State agencies × 10 working hours = 100 burden hours). State agencies are not required to periodically review their approved methodologies. We do not anticipate that State agencies will voluntarily review their methodologies for change on a regular basis, thus burden is not being assessed for this purpose.

Recordkeeping burden only: Each State agency would be required to keep a record of the information gathered and submitted to FNS for the SUA and self-employment costs. We estimate this to be 7 minutes or .1169 hours per year for the 53 State agencies to equal a total of 6 burden hours annually (53 State agencies × .1169 hours = 6 hours annual burden).

Summary of burden hours:

Affected Public: State agencies and local governments administering the SNAP.

Estimated Number of Respondents: 53.

Estimated Number of Responses Per Respondent: 1.

Estimated Number of Responses: 115.

Estimated Hours per Response: 12.6.

Estimated Total Annual Burden on Respondents: 236.

OMB # 0584-0496 | Requirement | Estimated number of respondents | Response annually per respondent | Total annual responses | Hours per response | Annual burden hours
Affected Public
State Agency
Reporting Burden | Standard Utility Allowance | 52 | 1 | 52 | 2.5 | 130
| Self-employment costs | 10 | 1 | 10 | 10 | 100
| Reporting Totals | 52 |  | 62 |  | 230
Recordkeeping Burden | Recordkeeping | 53 | 1 | 53 | .1169 | 6
| Recordkeeping Totals | 53 |  | 53 |  | 6
| Total Recordkeeping and Reporting Burden | 53 |  | 115 |  | 236
| Total Number of Record Keepers | 53 |  |  |  |

Dated: April 27, 2010.
Julia Paradis,
Administrator, Food and Nutrition Service.

[FR Doc. 2010-10390 Filed 5-3-10; 8:45 am]

BILLING CODE 3410-30-P